NUCLEAR REGULATORY COMMISSION

Seeks Qualified Candidates for the Advisory Committee on Reactor Safeguards

AGENCY: U.S. Nuclear Regulatory Commission (NRC).

ACTION: Request for résumés.

SUMMARY: The U.S. Nuclear Regulatory Commission is seeking qualified candidates for appointment to its Advisory Committee on Reactor Safeguards (ACRS).

ADDRESSES: Submit résumés to: Ms. Sherry Meador, Administrative Assistant, ACRS/ACNW, Mail Stop T2E-26, U.S. Nuclear Regulatory Commission, Washington, DC 20555-0001, or e-mail SAM@NRC.gov.

SUPPLEMENTARY INFORMATION: Congress established the ACRS to provide the NRC independent expert advice on matters related to the safety of existing and proposed nuclear power plants and on the adequacy of proposed reactor safety standards. Of primary importance are the safety issues associated with the operation of 103 commercial nuclear units in the United States and regulatory initiatives, including risk-informed and performance-based regulations, license renewal applications, power uprates, and the use of mixed oxide and high burnup fuels. An increase emphasis is being given to safety issues associated with new reactor designs and technologies, including passive system reliability and thermal hydraulic phenomena, use of digital instrumentation and control, international codes and standards for use in multi-international design certification applications, material and structural engineering and nuclear analysis and reactor core performance.

The ACRS membership is drawn from a variety of engineering and scientific disciplines needed to conduct broadly based review for these facilities, as well as proposed standards and criteria and related research activities. The ACRS also has some involvement in security matters related to the integration of safety and security of commercial reactors. This work involves technical issues associated with consequence analysis and the assessment of effective mitigation strategies. Committee members serve a 4-year term with the possibility of reappointment up to a maximum of two terms, for a potential total service of 12 years. At this time, the Commission is specifically seeking individuals with 10 years of experience in the areas of thermal hydraulics, materials and metallurgy, plant operations, severe accident analysis, probabilistic risk assessment, design engineering, digital instrumentation and control, and nuclear analysis. Candidates with pertinent graduate level education will be given additional consideration. Individuals should have a demonstrated record of accomplishments in the area of nuclear reactor safety. It is the NRC's policy to select the best qualified applicant for the job, regardless of race, gender, age, religion, or any other non-merit factor. Consistent with the requirements of the Federal Advisory Committee Act, the Commission seeks candidates with varying views and of diverse background so that the membership on the Committee will be fairly balanced in terms of the points of view represented and functions to be performed by the Committee. It is the NRC's policy to select the best qualified applicant for the job, regardless of race, gender, age, religion, or any other non-merit factor.

Criteria used to evaluate candidates include education and experience, demonstrated skills in nuclear safety matters, and the ability to solve problems. Additionally, the Commission considers the need for specific expertise in relationship to current and future tasks. Consistent with the requirements of the Federal Advisory Committee Act, the Commission seeks candidates with varying views and of diverse backgrounds so that the membership on the Committee will be fairly balanced in terms of the points of view represented and functions to be performed by the Committee.

Because conflict-of-interest regulations restrict the participation of members actively involved in the regulated aspects of the nuclear industry, the degree and nature of any such involvement will be weighed. Each qualified candidate's financial interests must be reconciled with applicable Federal and NRC rules and regulations prior to final appointment. This might require divestiture of securities issued by nuclear industry entities, or discontinuance of industry-funded research contracts or grants. A security background investigation for a Q clearance (or the transfer of an up-to-date Q clearance) will also be required.

Candidates must be citizens of the United States and be able to devote approximately 80-100 days per year to Committee business. A résumé describing the educational and professional background of the candidate, including any special accomplishments, professional references, current address, and telephone number should be provided. All qualified candidates will receive careful consideration. Applications will be accepted on an ongoing basis.

Dated: March 10, 2006.
Andrew L. Bates,
Advisory Committee Management Officer.

[FR Doc. E6-3815 Filed 3-15-06; 8:45 am]

BILLING CODE 7590-01-P